DEPARTMENT OF COMMERCE

Economic Development Administration

[Docket No. 000901251-0251-01]

RIN 0610-ZA16

Economic Adjustment Assistance; Availability of Funds for Norton Sound, Alaska

AGENCY: Economic Development Administration (EDA), Department of Commerce (CoC).

ACTION: Funding notice.

SUMMARY: The Economic Development Administration (EDA) announces the availability of $10.0 million for economic adjustment assistance in response to the August 8, 2000, Disaster Declaration by the Secretary of Commerce under the Section 312(a) of the Magnuson-Stevens Fishery Conservation and Management Act and under Section 308(b) of the Interjurisdictional Fisheries Act for communities in the Norton Sound region of Alaska. Eligible activities include planning, technical assistance, revolving loan funds, and infrastructure grants to address the economic adjustment problems of communities adversely affected by the Norton Sound fisheries disaster. Eligible areas and organizations representing areas include, but are not limited to: Unalakleet, Shaktoolik, Koyuk, Elim, Golovin, Nome, White Mountain, Stebbins, St. Michael, other nearby member communities of the Norton Sound Economic Development Corporation, the local Community Development Quota Organization, Teller, Diomede, Savoonga, Gambell, Brevig Mission, Wales, and the Village of Kotlik.

DATES: No awards will be made prior to fiscal year 2001, which begins October 1, 2000. However, proposals and applications will be accepted on a continuous basis beginning September 1, 2000.

ADDRESSES: A. Leonard Smith, Regional Director, Seattle Regional Office, Suite 1856, Jackson Federal Building 915 Second Avenue, Seattle Washington 98174; Intenet Address: LSmith7@doc.gov. Bernard E. Richert, Jr., Economic Development Representative (EDR), 550 West Seventh Avenue, Suite 1780, Anchorage, Alaska 99501-7594; Internet Address: brichert@doc.gov berney@alaska.net

FOR FURTHER INFORMATION CONTACT: Interested parties should contact the Seattle Regional Office or the Economic Development Representative for Alaska as follows: A. Leonard Smith, Regional Director, Seattle Regional Office, Telephone: (206) 220-7660; Bernard E. Richert, Jr., Economic Development Representative (EDR), Telephone: (907) 271-2272; fax: 907-271-2274.

SUPPLEMENTARY INFORMATION:

Economic Adjustment Assistance

(Catalog of Federal Domestic Assistance (CFDA) No. 11.307)

Funding Availability

Funds in the amount of $10.0 million are available and shall remain available until expended. These funds are provided under Agriculture, Rural Development, Food and Drug Administration, and Related Agencies Appropriations Act, 2000 (PL 106-78, Sec. 817), October 22, 1999, to be transferred to the Department of Commerce and administered under Section 209 of the Public Works and Economic Development Act of 1965, as amended (PWEDA).

Eligibility

Information on eligibility requirements for applicants and areas can be found in EDA's regulation at 13 CFR, Chapter III.

Grant Rates

Grant rates, as established under PWEDA and regulations at 13 CFR 301.4(b) may vary, if permitted by PWEDA and its implementing regulations, and may depend upon factors such as types of applicant, relative needs and financial capacity of applicants.

Selection Process

EDA will review proposals to evaluate eligibility, evaluation criteria, and funding priorities before inviting a full application for final funding consideration. It is anticipated that proposals will exceed the amount of funding available. Interested parties should submit proposals directly to the EDR for Alaska or to the Seattle Regional Office (see ``For Further Information'') using the standard preapplication form for EDA assistance (ED-900P, OMB Control No. 0610-0094).

EDA will evaluate project proposals in accordance with, as appropriate, 13 CFR Part 304, 13 CFR 308.4 (65 FR 2530 at 2532, January 18, 2000), and the criteria will be approximately of equal importance.

Proposals under this funding announcement must demonstrate how the EDA assistance will help the eligible area recover from the economic adjustment problems caused by the fisheries failure. Proposals for implementation grants must also demonstrate that the request for assistance has been preceded by sound planning, consistent with EDA regulations at 13 CFR 301.3.

In meeting EDA requirements for a strategy or Comprehensive Economic Development Strategy, EDA may accept for example: a State Emergency Recovery Plan, or the product of an equivalent state or local strategic economic recovery planning process with short-term and long-term goals.

Given the limited funds available from this appropriation, the amount awarded will be relative to the amount of economic distress/damage sustained by the community (applicants must be able to demonstrate need based on economic distress/damage resulting from the disaster).

EDA will consider the following funding priorities which will be the basis for selecting applications to be funded under this Notice. Priority numbers (1) and (2) are roughly equivalent and more important than the others. The funding priorities are as follows:

1. Projects located in areas that suffered the highest levels of economic injury, as a result of the disaster, as compared to other disaster areas.

2. Projects located in disaster impacted areas that had previously been experiencing high levels of economic distress.

3. Projects which leverage EDA funds with state, local, private, and other Federal assistance efforts.

4. Projects that restore, upgrade or enhance the reliability of critical infrastructure/public facilities to current building, environmental, and safety standards or codes, and are essential to stabilizing the economic base of the disaster area.

5. Projects that enhance/stimulate sustainable economic development and/or otherwise mitigate the physical and/or economic dislocation that could be caused by recurring future disaster.

6. Projects that assist the restoration of businesses, stimulate the development of new businesses and accelerate the development of new job opportunities for dislocated individuals within the affected areas.

7. Projects that enhance opportunities for economic diversification.

Other Information and Requirements

EDA regulations at 13 CFR Chapter III and 65 FR 2530, January 18, 2000, are available from EDA offices listed in the Addresses Section and from the EDA web site at www.doc.gov/eda.

Certain Departmental and other requirements are noted below. Additional information is available through links to EDA's web site at www.doc.gov/eda or from the appropriate EDA office listed in Addresses Section.

A. Notwithstanding any other provision of law, no person is required to respond to, nor shall a person be subject to a penalty for failure to comply with a collection of information subject to the requirements of the Paperwork Reduction Act (PRA) unless that collection of information displays a current valid Office of Management and Budget (OMB) control number. This notice involves a collection of information requirement subject to the provisions of the PRA and has been approved by OMB under Control Number 0610-0094.

B. All primary applicants must submit a completed Form CD-511, “Certifications Regarding Debarment, Suspension and Other Responsibility Matters; Drug-Free Workplace Requirements and Lobbying,” and the following explanations are hereby provided: Prospective participants (as defined at 15 CFR Part 26, Section 105) are subject to “Nonprocurement Debarment and Suspension” and the related section of the certification form prescribed above applies;

Grantees (as defined at 15 CFR Part 26, Section 605) are subject to 15 CFR Part 26, Subpart F, “Drug-Free Workplace Requirements (Grants)” and the related section of the certification form prescribed above applies;

Persons (as defined at 15 CFR Part 28, Secton 105) are subject to the lobbying provisions of 31 U.S.C. 1352, “Limitation on use of appropriated funds to influence certain Federal contracting and financial transactions,” and the lobbying section of the certification form prescribed above applies to applications/bids for grants, cooperative agreements, and contracts for more than $100,000, and loans and loan guarantees for more than $150,000, or the single family maximum mortgage limit for affected programs, whichever is greater; and

C. Any applicant that has paid or will pay for lobbying using any funds must submit an SF-LLL, “Disclosure of Lobbying Activities,” as required under 15 CFR Part 28, Appendix B.

D. The implementing regulations of the National Environmental Policy Act require EDA to provide public notice of the availability of project specific environmental documents such as environmental impact statements, environmental assessments, findings of no significant impact, records of decision, etc., to the affected public as specified in 40 CFR 1506.6(b).

Depending on the project location, environmental information concerning specific projects can be obtained from the Regional Environmental Officer in the appropriate EDA regional office listed in the Addresses section.

E. Recipients shall require applicants/bidders for subgrants, contracts, subcontracts, or other lower tier covered transactions at any tier under the award to submit, if applicable, a completed Form CD-512, “Certifications Regarding Debarment, Suspension, Ineligibility and Voluntary Exclusion-Lower Tier Covered Transactions and Lobbying” and disclosure form, SF-LLL “Disclosure of Lobbying Activities.” Form CD-512 is intended for the use of recipients and should not be transmitted to DoC. SF-LLL submitted by any tier recipient or subrecipient should be submitted to DoC in accordance with the instructions contained in the award document.

F. No award of Federal funds will be made to an applicant who has an outstanding delinquent Federal debt until either:

1. The delinquent account is paid in full;

2. A negotiated repayment schedule is established and at least one payment is received; or

3. Other arrangements satisfactory to DoC are made.

G. Unsatisfactory performance under prior Federal awards may result in an application not being considered for funding.

H. Applicants should be aware that a false statement on the application is grounds for denial of the application or termination of the grant award and grounds for possible punishment by a fine or imprisonment as provided in 18 U.S.C. 1001.

I. Applicants are hereby notified that any equipment or products authorized to be purchased with funding provided under this program must be American-made to the maximum extent feasible.

J. Applicants seeking an early start, i.e., to begin a project before EDA approval, must obtain a letter from EDA allowing such early start. The letter allowing the early start will be null and void if the project is not subsequently approved for funding by the grants officer. Approval of an early start does not constitute project approval. Applicants should be aware that if they incur any costs prior to an award being made they do so solely at their own risk of not being reimbursed by the Government. Notwithstanding any verbal or written assurance that may have been received, there is no obligation on the part of DoC to cover preaward costs. Additionally, EDA also requires that compliance with environmental regulations, in accordance with NEPA, be completed before construction begins.

K. If an application is selected for funding, EDA has no obligation to provide any additional future funding in connection with an award. Renewal of an award to increase funding or extend the period of performance is at the sole discretion of EDA.

L. Unless otherwise noted below, eligibility, program objectives, application procedures, selection procedures, evaluation criteria and other requirements for all programs are set forth in EDA's regulations at 13 CFR Chapter III and 65 FR January 18, 2000.

M. EDA is not authorized to provide any financial assistance directly to individuals for the purpose of starting a new business or expanding an existing business.

This Notice has been determined to be not significant for purposes of Executive Order 12866.

Dated: September 14, 2000.
Arthur C. Campbell,
Assistant Secretary for Economic Development.

[FR Doc. 00-24063 Filed 9-19-00; 8:45 am]

BILLING CODE 3510-24-M